DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on May 12, 2003 unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on April 1, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 2, 2003.
Patricia L. Toppings,
Alternate OSD Federal Register Liaison Officer, Department of Defense.

F090 SAFLL A

System name:

Congressional and Key Contacts.

System location:

Office of Legislative Liaison, Office of the Secretary of the Air Force, 1160 Air Force, Pentagon, Washington, DC 20330-1160.

Categories of individuals covered by the system:

Current members of the U.S. Congress and key Congressional staff members.

Categories of records in the system:

Biographical information on members of Congress and key staff members, mailing addresses, committee memberships, contact reports, and related information.

Authority for maintenance of the system:

10 U.S.C. 8013, Secretary of the Air Force.

Purpose(s):

To provide information on members of Congress and their staffs before whom Air Force representatives may be testifying or for whom escorts may be provided so that more effective communications can be achieved when providing Air Force information and services to members of Congress and their staffs and to promote the timely delivery of information for Department of Defense related events and materials.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Air Force's compilation of systems of records notices apply to this system.

Policies and practices for storing, retrieving, accessing, retaining, and disposing of records in the system:

Storage:

Maintained on computers and computer output products.

Retrievability:

By Congress member's or staff member's last name and committee membership.

Safeguards:

Records are maintained in password-protected network accessible only to authorized personnel.

Retention and disposal:

Disposition pending. No records will be destroyed until the National Archives and Records Administration has approved the retention and disposal of the records.

System manager(s) and address:

Chief, Legislative Liaison, Office of the Secretary of the Air Force, 1160 Air Force Pentagon, Washington, DC 20330-1160.

Notification procedure:

Individuals seeking to determine whether information about themselves is contained in this system of records should address written inquiries to the Chief, Legislative Liaison, Office of the Secretary of the Air Force, 1160 Air Force Pentagon, Washington, DC 20330-1160.

Record access procedures:

Individuals seeking to access information contained in this system of records should address written inquiries to the Chief, Legislative Liaison, Office of the Secretary of the Air Force, 1160 Air Force Pentagon, Washington, DC 20330-1160.

Contesting record procedures:

The Air Force rules for accessing records, and for contesting contents and appealing initial agency determinations are published in Air Force Instruction 37-132; 32 CFR part 806b; or may be obtained from the system manager.

Record source categories:

Congress members and key Congressional staff members. Official public records such as the Congressional Record, Congressional Quarterly Weekly Report, official transcripts of unclassified committee hearings, and the Congressional Staff Directory.

Exemptions claimed for the system:

None.

[FR Doc. 03-8622 Filed 4-9-03; 8:45 am]

BILLING CODE 5001-08-P